DEPARTMENT OF TRANSPORTATION

Surface Transportation Board

[STB Finance Docket No. 27590 (Sub-No. 2)]

TTX Company, et al.—Application for Approval of the Pooling of Car Service With Respect to Flat Cars

AGENCY: Surface Transportation Board.

ACTION: Notice of request for comments.

SUMMARY: In this proceeding, the Interstate Commerce Commission (ICC) provided for the monitoring of TTX Company (TTX) during the 10-year term of its pooling extension. The Board now proposes to reopen this proceeding to take comments from interested parties on whether any of TTX's activities require any action or particular oversight on the Board's part at this time.

DATES: The effective date of this decision is July 31, 2001. Comments are due on October 2, 2001.

ADDRESSES: Send comments (an original and 10 copies) referring to STB Finance Docket No. 27590 (Sub-No. 2) to: Surface Transportation Board, Office of the Secretary, Case Control Unit, 1925 K Street, NW., Washington, DC 20423-0001. Two copies of all filings should be sent separately to the Board's Office of Compliance and Enforcement, at the above address, Suite 780.

FOR FURTHER INFORMATION CONTACT: Melvin F. Clemens, Jr., (202) 565-1573. [TDD for the hearing impaired: 1-800-877-8339.]

SUPPLEMENTARY INFORMATION: In a 1994 decision approving a 10-year extension of TTX's pooling authority,¹ the ICC required its Office of Compliance and Enforcement (OCE) to monitor TTX's operations and to report on any problems at the end of the third and seventh years. Pursuant to the ICC Termination Act of 1995, Pub. L. 0No. 104-88, 109 Stat. 803 (1995)(ICCTA), effective January 1, 1996, the ICC was abolished; a number of its functions were eliminated; and its remaining rail and certain non-rail functions were transferred to the Surface Transportation Board (Board), newly established under ICCTA. Because the authority over TTX's pooling arrangement was transferred to the Board under ICCTA, the Board is now responsible for monitoring TTX's activities.

¹ This pooling authority was approved in TTX Company, Et. Al—Application For approval of the Pooling of Car Service With Respect to Flat Cars, Finance Docket No. 27590 (Sub-No. 2), ICC served Aug. 31, 1994.

Request for Comments

The Board requests comments on whether any of TTX's activities require any action or particular oversight on the Board's part at this time. Any commenter wishing to express a concern about any of TTX's activities should fully describe the activity, the concern, and the type of Board action that the commenter believes is appropriate. The comments will be reviewed by OCE, and, based on the issues raised, the Board will determine whether any further action is appropriate.

Electronic Submissions. In addition to submitting an original and 12 paper copies of each document filed with the Board (10 copies to the Office of the Secretary and 2 copies to OCE), parties must submit, on disks or CDs, copies of all textual materials, electronic work papers, and data bases and spreadsheets used to develop quantitative evidence. Data must be submitted on 3.5-inch IBM-compatible floppy disks or CDs. Textual materials must be in or compatible with WordPerfect 9.0. Electronic spreadsheets must be in, or compatible with, Lotus 1-2-3 Release 9, or Microsoft Excel 97. Each disk or CD should be clearly labeled with the identification acronym and number of the corresponding paper document, and a copy of such disk or CD should be provided to any other party upon request. The flexibility provided by such computer data will facilitate timely review by the Board and its staff.

Environment

This action will not significantly affect either the quality of the human environment or the conservation of energy resources.

It is ordered:

1. Applicants, shippers, and other interested parties may file comments with the Board, as described above, on whether any of TTX's activities require any action or particular oversight on the Board's part at this time.

2. Comments are due on October 2, 2001.

3. This decision is being served on all parties appearing on the service list in Finance Docket No. 27590 (Sub-No. 2).

4. This decision is effective on July 31, 2001.

Decided: July 27, 2001.
By the Board, Chairman Morgan, Vice Chairman Clyburn, and Commissioner Burkes.
Vernon A. Williams,
Secretary.

[FR Doc. 01-19452 Filed 8-2-01; 8:45 am]

BILLING CODE 4915-00-P